COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add to the Procurement List products and services to be furnished by nonprofit agencies employing persons who are blind or have other severe disabilities.

Comments Must Be Received on or Before: July 6, 2008.

ADDRESSES: Committee for Purchase From People Who Are Blind or Severely Disabled, Jefferson Plaza 2, Suite 10800, 1421 Jefferson Davis Highway, Arlington, Virginia, 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Mop, Dust and Floor:

NSN: 7920-00-616-2493—Dust Mop;

NSN: 7920-00-782-3784—Floor Mop.

NPA: New York City Industries for the Blind, Inc., Brooklyn, NY.

Coverage: B-List for the broad Government requirement as specified by the General Services Administration.

Contracting Activity: General Services Administration, Southwest Supply Center, Fort Worth, TX.

Filter, Notebook, Privacy:

NSN: 7520-00-NIB-1943—Filter, Notebook, Privacy, 14.1″,

NSN: 7520-00-NIB-1944—Filter, Notebook, Privacy, 14.1W,

NSN: 7520-00-NIB-1945—Filter, Notebook, Privacy, 15.0″,

NSN: 7520-00-NIB-1946—Filter, Notebook, Privacy, 15.4″,

NSN: 7520-00-NIB-1947—Filter, Notebook, Privacy, 17.0″,

NSN: 7520-00-NIB-1948—Filter, Notebook, Privacy, 17.0W,

NSN: 7520-00-NIB-1950—Filter, Notebook, Privacy, 19.0″,

NSN: 7520-00-NIB-2006—Filter, Notebook, Privacy, 19.0″W.

Coverage: A-List for the total Government requirements as specified by the General Services Administration.

NSN: 7520-00-NIB-1941—Filter, Notebook, Privacy 12.1″;

NSN: 7520-00-NIB-1942—Filter, Notebook, Privacy, 12.1W;

NSN: 7520-00-NIB-2005—Filter, Notebook Privacy, 13.37″ W;

NSN: 7520-00-NIB-2007—Filter, Notebook, Privacy, 20.1″;

NSN: 7520-00-NIB-2008—Filter, Notebook, Privacy, 20.1″ W;

NSN: 7520-00-NIB-2009—Filter, Notebook, Privacy, 22″ W;

NSN: 7520-00-NIB-2010—Filter, Notebook, Privacy, 24″ W.

Coverage: B-List for the broad Government requirements as specified by the General Services Administration.

NPA: Wiscraft Inc.—Wisconsin Enterprises for the Blind, Milwaukee, WI.

Contracting Activity: General Services Administration, Federal Supply Services, Region 2, New York, NY.

File Folders, Colored, Recycled:

NSN: 7530-00-NIB-0866—Letter-size, Assorted Colors, 1/3 cut, 100/BX;

NSN: 7530-00-NIB-0867—Letter-size, Blue, 1/3 Cut, 100/BX;

NSN: 7530-00-NIB-0868—Letter-size, Bright Green, 1/3 cut, 100/BX;

NSN: 7530-00-NIB-0869—Letter-size, Red, 1/3 cut, 100/BX;

NSN: 7530-00-NIB-0870—Letter-size, Purple, 1/3 cut, 100/BX;

NSN: 7530-00-NIB-0871—Letter-size, Yellow, 1/3 cut, 100/BX;

NSN: 7530-00-NIB-0872—Letter-size, Double Ply Reinforced, Assorted Colors, 1/3 cut, 100/BX;

NSN: 7530-00-NIB-0873—Letter-size, Double Ply Reinforced, Blue, 1/3 cut, 100/BX;

NSN: 7530-00-NIB-0874—Letter-size, Double Ply Reinforced, Bright Green, 1/3 cut, 100/BX;

NSN: 7530-00-NIB-0875—Letter-size, Double Ply Reinforced, Red, 1/3 cut, 100/BX;

NSN: 7530-00-NIB-0876—Letter-size, Double Ply Reinforced, Purple, 1/3 cut, 100/BX;

NSN: 7530-00-NIB-0877—Letter-size, Double Ply Reinforced, Yellow, 1/3 cut, 100/BX.

NPA: L.C. Industries For The Blind, Inc., Durham, NC.

Coverage: A-list for the total Government requirements as specified by the General Services Administration.

Contracting Activity: General Services Administration, Federal Supply Services, Region 2, New York, NY.

Services

Service Type/Location: Document Destruction. Department of Health and Human Services, Office of Medicare Hearings and Appeals, 200 Public Square, Cleveland, OH.

NPA: Weaver Industries, Inc., Akron, OH.

Contracting Activity: Department of Health and Human Services, Rockville, MD.

Service Type/Location: Hospital Housekeeping Services. Baltimore VA Medical Center, 10 North Green Street, Baltimore, MD.

NPA: Lakeview Center, Inc., Pensacola, FL.

Contracting Activity: Veterans Affairs Maryland Health Care System, Baltimore, MD.

Service Type/Location: Mailroom Operations. Internal Revenue Service, 50 South 200 East, Salt Lake City, UT.

NPA: ServiceSource, Alexandria, VA (Prime Contractor).

NPA: Utah Industries for the Blind, Salt Lake City, UT (Sub-Contractor).

Contracting Activity: U.S. Department of the Treasury, Internal Revenue Service Headquarters, Oxon Hill, MD.

Service Type/Location: Mailroom Operations. Internal Revenue Service, 801 Civic Center Drive West, Santa Ana, CA.

NPA: ServiceSource, Alexandria, VA (Prime Contractor).

NPA: Pacific Coast Community Services, Richmond, CA (Sub-Contractor).

Contracting Activity: U.S. Department of the Treasury, Internal Revenue Service Headquarters, Oxon Hill, MD.

Kimberly M. Zeich,
Director, Program Operations.

[FR Doc. E8-12740 Filed 6-5-08; 8:45 am]

BILLING CODE 6353-01-P